DEPARTMENT OF COMMERCE

National Oceanic and Atmospheric Administration

RIN 0648-XF376

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) will meet in May in Seattle, WA.

DATES: The meeting will be held on Tuesday, May 23, 2017, from 9 a.m. to 5 p.m. and on Wednesday, May 24, 2017, from 9 a.m. to 1 p.m.

ADDRESSES: The meeting will be held in the Traynor Room, Building 4 at the Alaska Fisheries Science Center, 7700 Sand Point Way NE., Seattle, WA 98115; Teleconference line: (907) 271-2896.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Tuesday, May 23, 2017 and Wednesday, May 24, 2017

The agenda will include: (a) Discussion of observer program review documents; (b) discussion of regulatory amendment analyses and tasking priorities; (c) briefing on renewal of the partial coverage contract; (d) discussion of options for increasing observer coverage rates in the partial coverage fisheries; and (e) discussion of scheduling and other business. The Agenda is subject to change, and the latest version will be posted at http://www.npfmc.org/observer-program/.

Although other non-emergency issues not on the agenda may come before this group for discussion, in accordance with the Magnuson-Stevens Fishery Conservation and Management Act, those issues may not be the subject of formal action during this meeting. Actions of the Council will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Shannon Gleason at (907) 271-2809 at least 7 working days prior to the meeting date.

Dated: May 3, 2017.
Tracey L. Thompson,
Acting Deputy Director, Office of Sustainable Fisheries, National Marine Fisheries Service.

[FR Doc. 2017-09223 Filed 5-5-17; 8:45 am]

BILLING CODE 3510-22-P